DEPARTMENT OF HEALTH AND HUMAN SERVICES (HHS)

Centers for Disease Control and Prevention

National Institute for Occupational Safety and Health (NIOSH); Advisory Board on Radiation and Worker Health (ABRWH)

Correction: This notice was published in the Federal Register on April 17, 2007, Volume 72, Number 73, pages 19207-19208. In addition to the ABRWH meeting scheduled for May 2-4, 2007, a meeting of the Subcommittee for Dose Reconstruction Reviews (SDRR) will also be convened on May 2, 2007. The meeting times for the ABRWH have been changed. The matters to be discussed by the SDRR are included below.

Subcommittee Meeting Time and Date

9 a.m.-11:30 a.m., May 2, 2007.

Committee Meeting Times and Dates

12:30 p.m.-4:30 p.m., May 2, 2007.

8 a.m.-5:45 p.m., May 3, 2007.

8 a.m.-2:30 p.m., May 4, 2007.

Matters to be Discussed: The topics for the Subcommittee meeting include Discussion of Reviewed Cases; Selection of Cases to Be Reviewed; and Discussion of Overall Review Process.

FOR FURTHER INFORMATION CONTACT: Dr. Lewis V. Wade, Executive Secretary, NIOSH, CDC, 4676 Columbia Parkway, Cincinnati, Ohio 45226, telephone 513.533.6825, fax 513.533.6826.

The Director, Management Analysis and Services Office, has been delegated the authority to sign Federal Register notices pertaining to announcements of meetings and other committee management activities, for both CDC and the Agency for Toxic Substances and Disease Registry.

Dated: April 20, 2007.
Elaine L. Baker,
Acting Director, Management Analysis and Services Office Centers for Disease Control and Prevention.

[FR Doc. E7-8077 Filed 4-25-07; 8:45 am]

BILLING CODE 4163-18-P